SURFACE TRANSPORTATION BOARD

[Docket No. AB 1093 (Sub-No. 2X)]

C&NC Railroad, LLC—Discontinuance Exemption—in Wayne and Henry Counties, Ind.

On July 9, 2021, C&NC Railroad, LLC (C&NC), filed a petition under 49 U.S.C. 10502 for exemption from the prior approval requirements of 49 U.S.C. 10903 to discontinue service over approximately 21 miles of rail line extending from milepost CB 5.4 at Beesons, Ind., to milepost 25.30 at New Castle, Ind., and from milepost R 0.1 to milepost R 1.16 at New Castle (the Line). The Line traverses U.S. Postal Service Zip Codes 47327, 47357, 47362, 47366, 47331, and 47387.

C&NC states that it provides service on the Line pursuant to a lease with Norfolk Southern Railway Company (NSR), which owns the Line. (Pet. 1.) See also C&NC R.R.—Lease Exemption Containing Interchange Commitment—Norfolk S. Ry., FD 35858 (STB served Nov. 5, 2014). According to C&NC, NSR has notified C&NC that the lease is being terminated and that NSR will resume rail operations over the Line as a common carrier upon the discontinuance of service by C&NC. (Pet. 1.) C&NC states that there currently is one shipper on the Line, and that no interruption in rail service will result from the proposed discontinuance. (Id. at 4.)

C&NC states that it has no information indicating that the Line contains federally granted rights-of-way and, if it discovers any information regarding federally granted rights-of-way, it will be made available to those requesting it. (Id. at 2.) C&NC states that discontinuance authority it seeks covers the “entire system” operated by C&NC, and it therefore requests that the Board decline to impose employee protective conditions. (Id. at 6.)

By issuance of this notice, the Board is instituting an exemption proceeding pursuant to 49 U.S.C. 10502(b). A final decision will be issued by October 27, 2021.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.¹ Persons interested in submitting an OFA must first file a formal expression of intent to file an offer by August 6, 2021, indicating the intent to file an OFA for subsidy and demonstrating that they are preliminarily financially responsible. See 49 CFR 1152.27(c)(1)(i).

¹ The filing fee for OFAs can be found at 49 CFR 1002.2(f)(25).

All filings in response to this notice must refer to Docket No. AB 1093 (Sub-No. 2X) and should be filed with the Surface Transportation Board via e-filing on the Board's website. In addition, a copy of each pleading must be served on C&NC's representative, William H. Stewart III, Vuono & Gray, LLC, 310 Grant St., Suite 2310, Pittsburgh, PA 15219. Replies to the petition are due on or before August 18, 2021.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0305. Assistance for the hearing impaired is available through the Federal Relay Service at (800) 877-8339.

Board decisions and notices are available at www.stb.gov.
Decided: July 26, 2021.
By the Board, Scott M. Zimmerman, Acting Director, Office of Proceedings.
Jeffrey Herzig,
Clearance Clerk.

[FR Doc. 2021-16271 Filed 7-28-21; 8:45 am]

BILLING CODE 4915-01-P